DEPARTMENT OF COMMERCE

International Trade Administration

[Docket No. 021220324-3072-03]

Special American Business Internship Training Program (SABIT)

AGENCY: International Trade Administration, Department of Commerce.

ACTION: Correction of the notice of extension of funding availability for grants under the Special American Business Internship Training Program (SABIT). This notice also clarifies the deadline date of the application process. Applications are to be received in the SABIT office by the closing date. Applications postmarked by the closing date, but arriving after the closing date, will not be accepted.

SUMMARY: The International Trade Administration publishes this notice to correct the closing date for the Special American Business Internship Training Program (SABIT) from March 1, 2003 to April 7, 2003. The extension was published in the Federal Register on February 27, 2003. The correct closing date is April 7, 2003.

DATES: To be considered, applications must be received in the SABIT office by April 7, 2003. Processing of complete applications takes approximately three to four months. All awards are expected to be made by July 1, 2003.

FOR FURTHER INFORMATION CONTACT: Liesel Duhon, Director, Special American Business Internship Training program, International Trade Administration, U.S. Department of Commerce, phone—(202) 482-0073, facsimile—(202) 482-2443. These are not toll free numbers.

SUPPLEMENTARY INFORMATION: This Notice amends the Federal Register notice published on February 27, 2003 (68 FR 9061) extending the deadline for the availability of funds for the Special American Business Internship Training program (SABIT), for training business executives and scientists (also referred to as Ainterns”) from Eurasia (Armenia, Azerbaijan, Belarus, Georgia, Kazakhstan, Kyrgyzstan, Moldova, Russia, Tajikistan, Turkmenistan, Ukraine, and Uzbekistan). All applications must be received by SABIT by April 7, 2003. All information in the previous announcement remains current, except for the change of the closing date.

Dated: March 28, 2003.
Liesel C. Duhon,
Director, SABIT Program.

[FR Doc. 03-7956 Filed 4-1-03; 8:45 am]

BILLING CODE 3510-HE-P